DEPARTMENT OF ENERGY

Federal Energy Regulatory Commission

[Docket No. IC22-21-000]

Commission Information Collection Activity (FERC-555); Comment Request; Extension

AGENCY: Federal Energy Regulatory Commission.

ACTION: Notice of information collection and request for comments.

SUMMARY: In compliance with the requirements of the Paperwork Reduction Act of 1995, the Federal Energy Regulatory Commission (Commission or FERC) is soliciting public comment on the currently approved information collections, FERC-555 (Preservation of Records for Public Utilities and Licensees, Natural Gas Companies, and Oil Pipeline Companies).

DATES: Comments on the collections of information are due September 20, 2022.

ADDRESSES: You may submit your comments (identified by Docket No. IC22-21-000) on FERC-555 by one of the following methods:

Electronic filing through https://www.ferc.gov is preferred.

• Electronic Filing: Documents must be filed in acceptable native applications and print-to-PDF, but not in scanned or picture format.

• For those unable to file electronically, comments may be filed by USPS mail or by hand (Including Courier) Delivery:

○ Mail via U.S. Postal Service Only: Addressed to: Federal Energy Regulatory Commission, Secretary of the Commission, 888 First Street NE, Washington, DC 20426.

○ Hand (including courier) delivery: Deliver to: Federal Energy Regulatory Commission, 12225 Wilkins Avenue, Rockville, MD 20852.

Instructions: All submissions must be formatted and filed in accordance with submission guidelines at: https://www.ferc.gov. For user assistance, contact FERC Online Support by email at ferconlinesupport@ferc.gov, or by phone at (866) 208-3676 (toll-free).

Docket: Users interested in receiving automatic notification of activity in this docket or in viewing/downloading comments and issuances in this docket may do so at https://www.ferc.gov.

FOR FURTHER INFORMATION CONTACT: Ellen Brown may be reached by email at DataClearance@FERC.gov, or by telephone at (202) 502-8663.

SUPPLEMENTARY INFORMATION:

Type of Request: Three-year extension of the information collection requirements with no changes to the current reporting requirements.

Title: Preservation of Records for Public Utilities and Licensees, Natural Gas Companies, and Oil Pipeline Companies.

OMB Control No.: 1902-0098.

Abstract: The Commission collects the information to carry out its responsibilities described in sections 301, 304 and 309 of the Federal Power Act (FPA),¹ sections 8, 10 and 16 of the Natural Gas Act (NGA),² and in the Interstate Commerce Act (ICA).³

¹ 16 U.S.C. 825, 825c and 825h.

² 15 U.S.C. 717g, 717i, and 717o.

³ 49 U.S.C. 60502.

The regulations for preservation of records at 18 CFR parts 125, 225, and 356 establish retention periods and other requirements for applicable records. These requirements apply to the public utilities, licensees, natural gas companies, and oil pipeline companies that are subject to the Commission's jurisdiction. Regulated entities use these records as the basis for required rate filings and reports to the Commission. The Commission's audit staff will use the records during compliance reviews, and the Commission's enforcement staff will use the information during investigations. In addition, the Commission's staff may use the records for special analyses on subjects such as jurisdictional entities' responses to extreme weather events.

On January 8, 1999 the Commission issued AI99-2-000, an Accounting Issuance providing guidance on records storage media.⁴ More specifically, the Commission gave each jurisdictional company the flexibility to select its own storage media. The storage media selected must have a life expectancy equal to the applicable record period unless the quality of the data transferred from one media to another with no loss of data would exceed the record period.

⁴ The Accounting Issuance can be found in the FERC eLibrary by typing the docket number (i.e., AI99-2-000) in the eLibrary Search Form, within the field labeled “Enter Docket Number.”

Types of Respondents: Electric utilities, licensees, natural gas companies, and oil pipeline companies.

Estimate of Annual Burden: The Commission estimates the annual public reporting burden for the information collection as:

FERC-555: Preservation of Records for Public Utilities and Licensees, Natural Gas Companies, and Oil Pipeline Companies
Number of respondents | Annual number of responses per respondent | Total number of responses | Average burden hrs. & cost per response ⁵ | Total annual burden hours & total annual cost
(1) | (2) | (1) * (2) = (3) | (4) | (3) * (4) = (5)
509 | 1 | 509 | 5,218 hrs.; $453,966 | 2,655,962 hrs.; $231,068,694

Comments are invited on: (1) whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

⁵ Commission staff estimates that the average industry hourly cost for this information collection is approximated by the FERC 2021 average hourly costs for wages and benefits, i.e., $87.00/hour.

Dated: July 18, 2022.
Debbie-Anne A. Reese,
Deputy Secretary.

[FR Doc. 2022-15715 Filed 7-21-22; 8:45 am]

BILLING CODE 6717-01-P